FEDERAL COMMUNICATIONS COMMISSION

47 CFR Chapter 1

[MB Docket No. 20-61; DA 20-203]

Media Bureau Seeks Comment on Whether To Extend the Effective Date of New Truth-In-Billing Requirements in the Television Viewer Protection Act of 2019

AGENCY: Federal Communications Commission.

ACTION: Proposed rule.

SUMMARY: In this document, the Media Bureau of the Federal Communications Commission (Commission) seeks comment on whether good cause exists for granting a blanket six-month extension of the effective date of new truth-in-billing requirements in the Television Viewer Protection Act of 2019, until December 20, 2020.

DATES: Comments are due on or before April 6, 2020; reply comments are due on or before April 13, 2020.

ADDRESSES: You may submit comments, identified by MB Docket No. 20-61, by any of the following methods:

• Federal Communications Commission's website: http://fjallfoss.fcc.gov/ecfs2/. Follow the instructions for submitting comments.

• Mail: Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority mail must be addressed to 445 12th Street SW, Washington, DC 20554.

People with Disabilities: Contact the FCC to request reasonable accommodations (accessible format documents, sign language interpreters, CART, etc.) by email: FCC504@fcc.gov or phone: (202) 418-0530 or TTY: (202) 418-0432.

FOR FURTHER INFORMATION CONTACT: For further information, contact Raelynn Remy, Raelynn.Remy@fcc.gov or (202) 418-2120.

SUPPLEMENTARY INFORMATION: This is a summary of a Public Notice, DA 20-203, released by the Commission's Media Bureau on February 27, 2020. The full text is available for public inspection and copying during regular business hours in the FCC Reference Center, Federal Communications Commission, 445 12th Street SW, Room CY-A257, Washington, DC 20554. This document will also be available via https://docs.fcc.gov/public/attachments/DA-20-203A1.docx. Documents will be available electronically in ASCII, Microsoft Word, and/or Adobe Acrobat. The complete text may be purchased from the Commission's copy contractor, 445 12th Street SW, Room CY-B402, Washington, DC 20554. Alternative formats are available for people with disabilities (Braille, large print, electronic files, audio format), by sending an email to fcc504@fcc.gov or calling the Commission's Consumer and Governmental Affairs Bureau at (202) 418-0530 (voice), (202) 418-0432 (TTY).

Synopsis

1. On December 20, 2019, Congress enacted the Television Viewer Protection Act of 2019 (TVPA),¹ which added section 642 to Title VI of the Communications Act of 1934, as amended (the Act).² Section 642 requires multichannel video programming distributors (MVPDs) to “give consumers a breakdown of all charges related to the MVPD's video service” before entering into a contract with a consumer for service,³ and also gives consumers 24 hours in which to cancel such service without penalty. In addition, section 642 requires greater transparency in electronic bills and prohibits MVPDs and providers of fixed broadband internet access service from charging consumers for equipment they do not provide. Section 642 of the Act, as added by the TVPA, becomes effective June 20, 2020, six months after the date of enactment of the TVPA; however, the Commission for “good cause” may extend the effective date by six months.⁴ In this Public Notice, we seek comment on whether, pursuant to section 1004(b) of the TVPA, good cause exists for granting a blanket extension of section 642's effective date by six months, until December 20, 2020. Parties advocating for a blanket extension should explain in detail the bases for their assertion that the effective date should be so extended. For example, parties seeking an extension could describe the steps they need to undertake to update their billing systems in order to provide the required information to consumers, the time needed to implement such updates, and any associated employee training needed to fulfill the new requirements.

¹ The TVPA was enacted as Title X of the “Further Consolidated Appropriations Act, 2020” (H.R. 1865, 116th Cong.).

² Although the TVPA amended the Act in other respects, this Public Notice concerns only those amendments made by section 1004(a) of the TVPA.

³ Section 642(a) of the Act, as added by section 1004(a) of the TVPA, indicates that information about fees and other charges can be provided by phone, in person, online, or by other reasonable means, and that a copy of this information must be sent to consumers by email, online link, or other reasonably comparable means not later than 24 hours after entering into a contract.

⁴ See TVPA, section 1004(b) (“Section 642 of the [Act] . . . shall apply beginning on the date that is 6 months after the date of the enactment of this Act. The [Commission] may grant an additional 6-month extension if [it] finds that good cause exists for such . . . extension.”).

Ex Parte Rules

11. Permit-But-Disclose. The proceeding this Public Notice initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Filing Requirements

12. All filings must be submitted in MB Docket No. 20-61. Interested parties may file comments and reply comments on or before the dates indicated on the first page of this document. Comments may be filed using the Commission's Electronic Comment Filing System (ECFS). See Electronic Filing of Documents in Rulemaking Proceedings, 63 FR 24121 (1998).

Electronic Filers: Comments may be filed electronically using the internet by accessing the ECFS: http://fjallfoss.fcc.gov/ecfs2/.

Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th Street SW, Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9050 Junction Drive, Annapolis Junction, MD 20701.

U.S. Postal Service first-class, Express, and Priority mail must be addressed to 445 12th Street SW, Washington, DC 20554.

13. Availability of Documents. Comments, reply comments, and ex parte submissions will be available for public inspection during regular business hours in the FCC Reference Center, Federal Communications Commission, 445 12th Street SW, CY-A257, Washington, DC 20554. These documents will also be available via ECFS. Documents will be available electronically in ASCII, Microsoft Word, and/or Adobe Acrobat.

14. People with Disabilities. To request materials in accessible formats for people with disabilities (Braille, large print, electronic files, audio format), send an email to fcc504@fcc.gov or call the FCC's Consumer & Governmental Affairs Bureau at (202) 418-0530 (voice), (202) 418-0432 (TTY).

Additional Information

15. For further information, contact Raelynn Remy, Raelynn.Remy@fcc.gov or (202) 418-2120.

Initial Regulatory Flexibility Act Analysis

16. As required by the Regulatory Flexibility Act of 1980, as amended (RFA), the Commission has prepared this Initial Regulatory Flexibility Analysis (IRFA) concerning the possible significant economic impact on small entities from any rules that may result from the attached Public Notice. Written public comments are requested on this IRFA. Comments must be identified as responses to the IRFA and must be filed by the deadlines for comments provided on the first page of the Public Notice. The Commission will send a copy of the Public Notice, including this IRFA, to the Chief Counsel for Advocacy of the Small Business Administration (SBA). In addition, the Public Notice and IRFA (or summaries thereof) will be published in the Federal Register.

A. Need for, and Objectives of, the Proposed Rules

17. In the attached Public Notice, we seek comment on whether, pursuant to section 1004(b) of the Television Viewer Protection Act of 2019 (TVPA), good cause exists for granting a blanket extension of section 642's effective date by six months, until December 20, 2020. On December 20, 2019, Congress enacted the TVPA, which added section 642 to Title VI of the Communications Act of 1934, as amended (the Act). Section 642 requires multichannel video programming distributors (MVPDs) to “give consumers a breakdown of all charges related to the MVPD's video service” before entering into a contract with a consumer for service, and also gives consumers 24 hours in which to cancel such service without penalty. In addition, section 642 requires greater transparency in electronic bills and prohibits MVPDs and providers of fixed broadband internet access service from charging consumers for equipment they do not provide. Section 642 of the Act, as added by the TVPA, becomes effective June 20, 2020, six months after the date of enactment of the TVPA; however, the Commission for “good cause” may extend the effective date by six months.

B. Legal Basis

18. The proposed action is authorized pursuant to sections 4(i), 4(j), and 303(r) of the Communications Act of 1934, as amended, 47 U.S.C. 154(i), 154(j), 303(r), and section 1004 of the Television Viewer Protection Act of 2019.

C. Description and Estimate of the Number of Small Entities To Which the Proposed Rules Will Apply

19. The RFA directs agencies to provide a description of, and where feasible, an estimate of the number of small entities that may be affected by the proposed rules, if adopted. The RFA generally defines the term “small entity” as having the same meaning as the terms “small business,” “small organization,” and “small governmental jurisdiction.” In addition, the term “small business” has the same meaning as the term “small business concern” under the Small Business Act.⁵ A small business concern is one which: (1) Is independently owned and operated; (2) is not dominant in its field of operation; and (3) satisfies any additional criteria established by the SBA. Below, we provide a description of such small entities, as well as an estimate of the number of such small entities, where feasible.

⁵ Pursuant to 5 U.S.C. 601(3), the statutory definition of a small business applies “unless an agency, after consultation with the Office of Advocacy of the Small Business Administration and after opportunity for public comment, establishes one or more definitions of such term which are appropriate to the activities of the agency and publishes such definition(s) in the Federal Register.”

• Cable Companies and Systems (Rate Regulation Standard)

• Cable System Operators (Telecommunications Act Standard)

• Open Video Services

• Satellite Master Antenna Television (SMATV) Systems, also known as Private Cable Operators (PCOs)

• Direct Broadcast Satellite (DBS) Service

• Wired Telecommunications Carriers

• Local Exchange Carriers (LECs)

• Incumbent Local Exchange Carriers (incumbent LECs)

• Competitive Local Exchange Carriers (Competitive LECs), Competitive Access Providers (CAPs), Shared-Tenant Service Providers, and Other Local Service Providers

• Interexchange Carriers (IXCs)

• Operator Service Providers (OSPs)

• Other Toll Carriers

• Wireless Telecommunications Carriers (except Satellite)

• Wireless Communications Services

• Wireless Telephony

• Broadband Personal Communications Service

• Specialized Mobile Radio Licenses

• Lower 700 MHz Band Licenses

• Upper 700 MHz Band Licenses

• 700 MHz Guard Band Licensees

• Air-Ground Radiotelephone Service

• AWS Services (1710-1755 MHz and 2110-2155 MHz bands (AWS-1); 1915-1920 MHz, 1995-2000 MHz, 2020-2025 MHz and 2175-2180 MHz bands (AWS-2); 2155-2175 MHz band (AWS-3))

• Fixed Microwave Services

• Broadband Radio Service and Educational Broadband Service

• Satellite Telecommunications

• All Other Telecommunications

D. Description of Projected Reporting, Recordkeeping, and Other Compliance Requirements

20. The Public Notice does not propose to adopt any reporting or recordkeeping requirements, but instead seeks comment on whether to grant a blanket extension of time to come into compliance with certain statutory requirements. Specifically, it seeks comment on whether, pursuant to section 1004(b) of the TVPA, good cause exists for granting a blanket extension of section 642's effective date by six months, until December 20, 2020.

E. Steps Taken To Minimize Significant Economic Impact on Small Entities and Significant Alternatives Considered

21. The RFA requires an agency to describe any significant alternatives that it has considered in reaching its proposed approach, which may include the following four alternatives (among others): “(1) the establishment of differing compliance or reporting requirements or timetables that take into account the resources available to small entities; (2) the clarification, consolidation, or simplification of compliance and reporting requirements under the rule for such small entities; (3) the use of performance, rather than design standards; and (4) an exemption from coverage of the rule, or any part thereof, for small entities.”

22. The Public Notice seeks comment on whether, pursuant to section 1004(b) of the TVPA, good cause exists for granting a blanket extension of section 642's effective date by six months, until December 20, 2020. Section 642 requires MVPDs to “give consumers a breakdown of all charges related to the MVPD's video service” before entering into a contract with a consumer for service, and also gives consumers 24 hours in which to cancel such service without penalty. In addition, section 642 requires greater transparency in electronic bills and prohibits MVPDs and providers of fixed broadband internet access service from charging consumers for equipment they do not provide. Section 642 of the Act, as added by the TVPA, becomes effective June 20, 2020, six months after the date of enactment of the TVPA; however, the Commission for “good cause” may extend the effective date by six months. The Commission will consider the record in response to the Public Notice in determining whether there is good cause for a blanket extension, and the Public Notice indicates that parties advocating for a blanket extension, including small entities, should explain in detail the bases for their assertion that the effective date should be so extended. The Public Notice notes that, for example, parties seeking an extension could describe the steps they need to undertake to update their billing systems in order to provide the required information to consumers, the time needed to implement such updates, and any associated employee training needed to fulfill the new requirements. Extending the effective date of section 642 could reduce the economic impact of that provision by affording affected small entities additional time to come into compliance with the requirements set forth therein. We invite comment on the economic impact of our proposals on small entities, and on how the Commission could minimize any potential burdens on such entities.

F. Federal Rules That May Duplicate, Overlap, or Conflict With the Proposed Rule

23. None.

24. We adopt this Public Notice pursuant to the authority found in sections 4(i), 4(j), and 303(r) of the Communications Act of 1934, as amended, 47 U.S.C. 154(i), 154(j), 303(r), and section 1004 of the Television Viewer Protection Act of 2019.

Federal Communications Commission.
Thomas Horan,
Chief of Staff, Media Bureau.

[FR Doc. 2020-05284 Filed 3-13-20; 8:45 am]

BILLING CODE 6712-01-P